DEPARTMENT OF AGRICULTURE

Forest Service

Reports and Guidance Documents; Availability etc.

Withdrawal of the Pacific Northwest Regional Guide and transfer of some decisions therein to the following National Forests' Land and Resource Management Plans: Colville National Forest, Gifford Pinchot National Forest, Mt. Baker-Snoqualmie National Forest, Okanogan National Forest, Olympic National Forest, Wenatchee National Forest, Deschutes National Forest, Fremont National Forest, Malheur National Forest, Mt. Hood National Forest, Ochoco National Forest, Rogue River National Forest, Siskiyou National Forest, Siuslaw National Forest, Umatilla National Forest, Umpqua National Forest, Wallowa-Whitman National Forest, Willamette National Forest, and Winema National Forest.

AGENCY: Forest Service, USDA.

ACTION: Notice.

SUMMARY: The intended effect of this action is to comply with 36 CFR Part 219 section 219.35(e) which directs that within 1 year of November 9, 2000, the Regional Forester must withdraw the Regional Guide. When a Regional Guide is withdrawn, the Regional Forester must identify the decisions in the Regional Guide that are to be transferred to a regional supplement of the Forest Service directive system (36 CFR 200.4) or to one or more plans and give notice in the Federal Register of these actions.

DATES: This action will be effective the date of this Federal Register notice.

FOR FURTHER INFORMATION CONTACT: Alan J. Horton, Policy Planner, Pacific Northwest Region, P.O. Box 3623, Portland, Oregon 97208. Phone: (503) 233-2690.

SUPPLEMENTARY INFORMATION: This action withdraws the Pacific Northwest Regional Guide and transfers some decisions therein to the Land and Resource Management Plans (LRMPs) for the National Forests in the Pacific Northwest Region. Specifically, this action transfers from the Regional Guide to LRMPs the management standards and guidelines for maximum harvest size limits (a requirement of the National Forest Management Act) and the management standards and guidelines for harvest utilization. Management standards and guidelines for maximum harvest size limits are titled “Size and Dispersal of Openings and State of Vegetation” in the Regional Guide, page 3-7. Management standards and guidelines for harvest utilization are entitled “Standard and Guideline 4-2” and “Table 3-6, Utilization Standards” under “Management Intensity and Utilization Standards” in the Regional Guide, page 3-9. The following Regional Guide decisions are hereby transferred to the LRMPs in the Pacific Northwest Region:

Size and Dispersal of Openings and State of Vegetation

Standard and Guideline 2-1

Forest openings created by the application of even-aged harvest cutting methods shall be limited to a maximum size of 60 acres in the Douglas-fir type of the coastal Douglas-fir zone and to a maximum size of 40 acres for all other forest types in the Pacific Northwest Region. Exceptions are permitted for natural catastrophic events (such as fires, windstorms, or insect and disease attacks) or on an individual basis after a 60-day public notice period and review by the Regional Forester. In addition, the limits may be exceeded by as much as 50 percent without necessitating review by the Regional Forester or 60 days public notice when exceeding the limit will produce a more desirable combination of net public benefits and when any one of the following four criteria is met.

1. When a larger created opening will enable the use of an economically feasible logging system that will lessen the disturbance to soil, water, fish, riparian resources, or residual vegetation. Such lessening is to be achieved by reducing landing or road construction away from unstable soil, or by reducing soil and vegetation disturbance caused by dragging logs.

2. When created openings cannot be centered around groups of trees infected with dwarf mistletoe or root rot and therefore need to be expanded to include these trees in order to avoid infection of susceptible adjacent conifers.

3. When visual quality objectives require openings to be shaped and blended to fit the landform.

4. When larger openings are needed to achieve regeneration objectives in harvest areas being cut by the shelterwood method and where destruction of the newly created stand would occur as a result of delayed removal of shelter trees. This exception applies only to existing shelterwood units and to shelterwood units under contract prior to approval of the Forest Plan.

Standard and Guideline 2-2

Created openings will be separated by blocks of land that generally are not classed as created openings and that contain one or more logical harvest units. These areas shall be large enough and contain a stand structure appropriate to meet resource requirements of the Forest Plan. Resource requirements may include wildlife habitat, watershed, landscape management, and others. Contiguous harvest units (concerning or otherwise touching) are not precluded, but must be considered as a single opening which must be created within requirements for size, exception procedures, and justification.

The total area of created openings contiguous to 30-acre or larger natural openings should normally not exceed one-third the size of the natural openings (regardless of size) unless adequate vegetation along the edge can be developed or retained in sufficient density to protect wildlife and visual management objectives. The determination of adequate vegetation will be made by an appropriate interdisciplinary team.

Standard and Guideline 2-3

A harvested area of commercial forest land will no longer be considered a created opening for silvicultural purposes when stocking surveys, carried out in accordance with Regional instructions, indicate prescribed tree stocking that is at least 4½ feet high and free to grow. When other resource management considerations (such as wildlife habitat, watershed needs, or visual requirements) prevail, a created opening will no longer be considered an opening when the vegetation in it meets a particular management objective stated in the Forest Plan. For example, the objectives for a specified big-game winter range might require trees to be 20 feet tall before the adjacent stand may be harvested. In other instances, entry may be made sooner to meet specific resource or management requirements.

Standard and Guideline 4-2

Separate utilization standards are to be used in determining harvest levels for the first decade and future decades to the planning horizon. The standards displayed in the following table shall apply to all Forests, except where individual market areas or specific products present opportunities for standards specifying utilization of a higher proportion of the tree resource. In these Forests, planning will not be limited to the stated Regional utilization standards.

Table 3-6.—Utilization Standards
Type Tree | Minimum d.b.h.¹ (Inches) | Minimum Top d.i.b.² (Inches)
First Decade
Existing Mature Trees, Except Lodgepole Pine (first and future decades) | 9 | 6
Existing Commercial Thinning Size Trees and Lodgepole Pine | 7 | 4
Future Decades
All Species, Except Surviving Stands of First Decade Existing Mature | 7 | 4
¹ d.b.h.—diameter at breast height
² d.i.b.—diameter inside bark

Dated: November 21, 2001.
Nancy Graybeal,
Deputy Regional Forester.

[FR Doc. 01-29549 Filed 11-27-01; 8:45 am]

BILLING CODE 3410-11-M